DEPARTMENT OF TRANSPORTATION

National Highway Traffic Safety Administration

[Docket No. NHTSA-2008-0165; Notice 1]

Medical Coaches, Inc., Receipt of Petition for Decision of Inconsequential Noncompliance

Medical Coaches, Inc. (Medical Coaches), has determined that certain model year 1996-2008 trailers did not fully comply with paragraph S5.3 of 49 CFR 571.120, Federal Motor Vehicle Safety Standard (FMVSS) No. 120 Tire Selection and Rims for Motor Vehicles With a GVWR of More Than 4,536 Kilograms (10,000 pounds). Medical Coaches has filed an appropriate report pursuant to 49 CFR Part 573, Defect and Noncompliance Responsibility and Reports.

Pursuant to 49 U.S.C. 30118(d) and 30120(h) (see implementing rule at 49 CFR part 556), Medical Coaches has petitioned for an exemption from the notification and remedy requirements of 49 U.S.C. Chapter 301 on the basis that this noncompliance is inconsequential to motor vehicle safety.

This notice of receipt of Medical Coaches petition is published under 49 U.S.C. 30118 and 30120 and does not represent any agency decision or other exercise of judgment concerning the merits of the petition.

Affected are approximately 310 Trailers manufactured between March 14, 1996 and May 19, 2008.

Paragraphs S5.3 of FMVSS No. 120 requires in pertinent part:

S5.3 Each vehicle shall show the information specified in S5.3.1 and S5.3.2 and, in the case of a vehicle equipped with a non-pneumatic spare tire, the information specified in S5.3.3, in the English language, lettered in block capitals and numerals not less than 2.4 millimeters high and in the format set forth following this paragraph. This information shall appear either—

(a) After each GAWR listed on the certification label required by Sec. 567.4 or Sec. 567.5 of this chapter; or at the option of the manufacturer,

(b) On the tire information label affixed to the vehicle in the manner, location, and form described in Sec. 567.4 (b) through (f) of this chapter as appropriate of each GVWR-GAWR combination listed on the certification label * * *

Truck Example—Suitable Tire-Rim Choice

GVWR: 7,840 KG (17,289 LB)

GAWR: FRONT—2,850 KG (6,280 LB) WITH 7.50-20(D) TIRES, 20x6.00 RIMS AT 520 KPA (75 PSI) COLD SINGLE

GAWR: REAR—4,990 KG (11,000 LB) WITH 7.50-20(D) TIRES, 20x6.00 RIMS, AT 450 KPA (65 PSI) COLD DUAL

GVWR: 13,280 KG (29,279 LB)

GAWR: FRONT—4,826 KG (10,640 LB) WITH 10.00-20(F) TIRES, 20x7.50 RIMS, AT 620 KPA (90 PSI) COLD SINGLE

GAWR: REAR—8,454 KG (18,639 LB) WITH 10.00-20(F) TIRES, 20x2.70 RIMS, AT 550 KPA (80 PSI) COLD DUAL

In its petition, Medical Coaches explained that, as of March 14, 1996, its tire and rim label information was not in full compliance with FMVSS No. 120. The combined certification/tire information labels affixed to Medical Coaches' trailers pursuant to 49 CFR part 567 Certification failed to comply with S5.3 of FMVSS No. 120 because metric measurements were omitted. The labels contained the correct English unit information.

Medical Coaches also stated that since September of 2006 its trailer combined certification/tire information labels did not comply with the requirements of 49 CFR Part 567 due to the omission of metric units for gross vehicle weight rating (GVWR) and gross axle weight ratings (GAWR). The label contained the correct English unit information.

Medical Coaches learned of its noncompliance after submitting sample certification labels to the National Truck Equipment Association (NTEA) for review as part of their Member Verification Program (MVP).

Medical Coaches has determined that 310 trailers have noncompliant labels. All of those labels failed to fully comply with FMVSS 120, and 46 did not fully comply with 49 CFR part 567.

Medical Coaches supported its application for inconsequential noncompliance with the following statements:

The Medical Coaches' certification label did contain the correct information in English units and displayed this information in the correct format.

The omission of the metric units is highly unlikely to have any affect whatsoever on motor vehicle safety since the correct English units were included and because of the small number of trailers involved.

The metric requirements of 49 CFR 571.120 and 49 CFR 567 were not mandated for safety reasons.

Several inconsequential noncompliance requests have been granted by NHTSA in the past for the omission of metric units on certification labels. These petitions involved thousands of trailers, well over the 310 involved in this petition.

Medical Coaches has not received any complaints from customers on the omission of the metric data from the certification labels and is not aware of accidents or injuries caused by these omissions.

Medical Coaches has purchased a certification label printing program from the NTEA that assures certification label compliance from now and into the future.

Additionally, Medical Coaches states that it does not question the need and usefulness of detailing metric units on certification labels. Medical Coaches' error of omission, while regrettable, was corrected as soon as the nonconformance was realized and believes that it is now in full compliance with assurances for the future.

Medical Coaches believes the metric equivalents on certification labels, while mandated, have little affect on vehicle safety and respectfully requests that NHTSA grant a petition.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Anyone is able to search the electronic form of all comments received into any of our dockets by the name of the individual submitting the comment (or signing the comment, if submitted on behalf of an association, business, labor union, etc.). DOT's complete Privacy Act Statement in the Federal Register published on April 11, 2000 (65 FR 19477-78).

You may view documents submitted to a docket at the address and times given above. You may also view the documents on the Internet at http://www.regulations.gov by following the online instructions for accessing the dockets available at that Web site.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: December 17, 2008.

Authority: 49 U.S.C. 30118, 30120: delegations of authority at CFR 1.50 and 501.8.

Issued on: November 10, 2008.
Claude H. Harris,
Director, Office of Vehicle Safety Compliance.

[FR Doc. E8-27235 Filed 11-14-08; 8:45 am]

BILLING CODE 4910-59-P